SECURITIES AND EXCHANGE COMMISSION

[Release No. 34-70917; File No. SR-CME-2013-24]

Self-Regulatory Organizations; Chicago Mercantile Exchange Inc.; Notice of Filing of Proposed Rule Change Regarding the Designation of a Primary Backup Data Center

November 21, 2013.

Pursuant to Section 19(b)(1) of the Securities Exchange Act of 1934 (“Act”),¹ and Rule 19b-4 thereunder,² notice is hereby given that on November 15, 2013, Chicago Mercantile Exchange Inc. (“CME”) filed with the Securities and Exchange Commission (“Commission”) the proposed rule change described in Items I, II and III, below, which items have been prepared primarily by CME. The Commission is publishing this notice to solicit comments on the proposed rule change for interested persons.

¹ 15 U.S.C. 78s(b)(1).

² 17 CFR 240.19b-4.

I. Self-Regulatory Organization's Statement of the Terms of Substance of the Proposed Rule Change

CME proposes to activate its New York Data Center (“1NE Data Center”) as its primary backup data center. The 1NE Data Center currently operates in part as a tertiary data center for CME. The 1NE Data Center will be redesigned and become the primary backup data center in place of CME's current backup data center, the Remote Data Center (“RDC”). The proposed change does not involve any changes to CME's rulebook.

II. Self-Regulatory Organization's Statement of the Purpose of, and Statutory Basis for, the Proposed Rule Change

In its filing with the Commission, CME included statements concerning the purpose and basis for the proposed rule change and discussed any comments it received on the proposed rule change. The text of these statements may be examined at the places specified in Item IV below. CME has prepared summaries, set forth in sections A, B, and C below, of the most significant aspects of such statements.

A. Self-Regulatory Organization's Statement of the Purpose of, and Statutory Basis for, the Proposed Rule Change

As a derivatives clearing organization (“DCO”) registered with the Commodity Futures Trading Commission (“CFTC”), CME has an obligation to establish and maintain a business continuity and disaster recovery plan. The procedures associated with this plan are intended to ensure that CME has sufficient physical, technological and personnel resources to enable the timely recovery and resumption of operations following disruptions. Maintaining backup data centers is one component of these procedures.

With this filing, CME proposes to activate its New York Data Center (“1NE Data Center”) as its primary backup data center. The 1NE Data Center currently operates in part as a tertiary data center for CME. The 1NE Data Center will be redesigned and will become the primary backup data center in place of CME's current backup data center, the Remote Data Center (“RDC”). The 1NE Data Center will be an “all disaster recovery data center” housing the primary back-up for electronic trading, clearing, and regulatory infrastructures. It will also continue to house CME's New York trading floor and office staff systems as well.

CME believes the proposed change will increase the reliability and security of its backup facilities. First, the new back-up facility is located in a distinct geographic area from CME's primary facility and therefore CME Group would have capabilities to mitigate risks associated with a large scale disruption associated with only one geographical area (for example, a weather event). In addition, because CME Group's new datacenter strategy employs single IP connectivity, customers will no longer have to change their configurations or take any additional steps to connect to the backup datacenter and therefore the switch from CME Group's production to back-up data center will be seamless for CME Group's customers.

CME believes that implementation of the proposed change will therefore allow it to continue to maintain a robust and effective business continuity program. The proposed change does not involve any changes to CME's rulebook. CME currently plans to operationalize the new 1 NE Data Center as soon as all required regulatory approvals are obtained. CME is currently making preparations to implement the change as of November 25, 2013. CME notes that it has also submitted the proposed changes to the CFTC in a separate filing, CME Submission 13-379, as an “Advance Notice” filing pursuant to CFTC Regulation 40.10(a).

CME believes the proposed rule changes are consistent with the requirements of the Act including Section 17A of the Act.³ The proposed rule changes involve enhancements to CME's business continuity and disaster recovery plan procedures and, as such, are designed to promote the prompt and accurate clearance and settlement of securities transactions and, to the extent applicable, derivatives agreements, contracts, and transactions, to assure the safeguarding of securities and funds which are in the custody or control of the clearing agency or for which it is responsible, and, in general, to protect investors and the public interest consistent with Section 17A(b)(3)(F) of the Act.⁴ The proposed rule changes designate a new location as CME's primary backup data center in the event of a disruption. The area that is proposed to be designated as the new back-up area currently operates as a tertiary data center for CME. This proposed new back-up facility is not located near CME's primary facilities. This means that CME will be able to mitigate risks associated with a large scale disruption associated with only one geographical area (for example, a weather event). In addition, because CME's new datacenter strategy employs single IP connectivity, customers will no longer have to change their configurations or take any additional steps to connect to the backup datacenter and therefore the switch from CME's production to back-up data center will be seamless for CME's customers. Further, the new backup location will act as the primary back-up for electronic trading, clearing, and regulatory infrastructures.

³ 15 U.S.C. 78q-1.

⁴ 15 U.S.C. 78q-1(b)(3)(F).

For these reasons, CME believes this change will increase the reliability and security of its backup facilities. Because the change is designed to help ensure that critical business activities will be able to be performed in a timely manner even in the event of a significant disruption, CME believes the change should be seen to contribute to the safeguarding of securities and funds in CME's custody or control or for which CME is responsible and the protection of investors. As such, CME believes the proposed changes are consistent with the purposes and requirements of Section 17A(b)(3)(F) of the Act.⁵

⁵ 15 U.S.C. 78q-1(b)(3)(F).

B. Self-Regulatory Organization's Statement on Burden on Competition

CME does not believe that the proposed rule change will have any impact, or impose any burden, on competition. The designation of a new backup data center should not be seen to have any competitive effects.

C. Self-Regulatory Organization's Statement on Comments on the Proposed Rule Change Received From Members, Participants, or Others

CME has not solicited comments regarding this proposed rule change. CME has not received any unsolicited written comments from interested parties.

III. Date of Effectiveness of the Proposed Rule Change and Timing for Commission Action

Within 45 days of the date of publication of this notice in the Federal Register or within such longer period up to 90 days (i) as the Commission may designate if it finds such longer period to be appropriate and publishes its reasons for so finding or (ii) as to which the self-regulatory organization consents, the Commission will:

(A) By order approve or disapprove the proposed rule change or

(B) Institute proceedings to determine whether the proposed rule change should be disapproved.

IV. Solicitation of Comments

Interested persons are invited to submit written data, views and arguments concerning the foregoing, including whether the proposed rule change is consistent with the Act. Comments may be submitted by any of the following methods:

Electronic Comments

• Use the Commission's Internet comment form (http://www.sec.gov/rules/sro.shtml), or

• Send an email to rule-comment@sec.gov. Please include File No. SR-CME-2013-24 on the subject line.

Paper Comments

• Send paper comments in triplicate to Elizabeth M. Murphy, Secretary, Securities and Exchange Commission, 100 F Street NE., Washington, DC, 20549-1090.

All submissions should refer to File Number SR-CME-2013-24. This file number should be included on the subject line if email is used. To help the Commission process and review your comments more efficiently, please use only one method. The Commission will post all comments on the Commission's Internet Web site (http://www.sec.gov/rules/sro.shtml). Copies of the submission, all subsequent amendments, all written statements with respect to the proposed rule change that are filed with the Commission, and all written communications relating to the proposed rule change between the Commission and any person, other than those that may be withheld from the public in accordance with the provisions of 5 U.S.C. 552, will be available for Web site viewing and printing in the Commission's Public Reference Room, 100 F Street NE., Washington, DC 20549, on official business days between the hours of 10:00 a.m. and 3:00 p.m. Copies of such filing also will be available for inspection and copying at the principal office of CME and on CME's Web site at http://www.cmegroup.com/market-regulation/rule-filings.html.

All comments received will be posted without change; the Commission does not edit personal identifying information from submissions. You should submit only information that you wish to make available publicly. All submissions should refer to File Number SR-CME-2013-24 and should be submitted on or before December 18, 2013.

For the Commission, by the Division of Trading and Markets, pursuant to delegated authority.⁶
⁶ 17 CFR 200.30-3(a)(12).
Kevin M. O'Neill,
Deputy Secretary.

[FR Doc. 2013-28422 Filed 11-26-13; 8:45 am]

BILLING CODE 8011-01-P